FEDERAL COMMUNICATIONS COMMISSION

47 CFR Part 73

[DA 08-568; MB Docket No. 08-26; RM-11418]

Radio Broadcasting Services; Evart, Ludington, Pentwater, and Manistee, MI

AGENCY: Federal Communications Commission.

ACTION: Proposed rule.

SUMMARY: This document sets forth a proposal to amend the FM Table of Allotments. The Commission requests comment on a petition filed by Roy E. Henderson. Petitioner proposes the allotment of Channel 274A at Evart, Michigan, as a first local service. Channel 274A can be allotted at Evart in compliance with the Commission's minimum distance separation requirements with a site restriction of 14.6 km (9.1 miles) north of Evart. The proposed coordinates for Channel 274A at Evart are 44-01-43 North Latitude and 85-17-51 West Longitude. In order to accommodate the proposed allotment of Channel 274A at Evart, the Commission also issues a show cause order to Bay View Broadcasting, Inc., to show cause why its Station WMOM(FM) license should not be modified to specify operation on Channel 242A in lieu of Channel 274A at Pentwater, Michigan. In order to accommodate that channel substitution, the Commission further proposes, and invites comment on, the substitution of FM Channel 249A for vacant FM Channel 242A at Ludington, Michigan. Channel 249A can be allotted at Ludington in compliance with the Commission's minimum distance separation requirements with a site restriction of 9.0 km (5.6 miles) north of Ludington. The proposed coordinates for Channel 249A at Ludington are 44-01-53 North Latitude and 86-24-57 West Longitude. Finally, in order to accommodate that channel substitution, the Commission issues a show cause order to Synergy Media, Inc., to show cause why its Station WMLZ(FM) license should not be modified to specify operation on Channel 282A in lieu of Channel 249A at Manistee, Michigan. See SUPPLEMENTARY INFORMATION infra.

DATES: Comments must be filed on or before May 5, 2008, and reply comments on or before May 20, 2008.

ADDRESSES: Federal Communications Commission, Washington, DC 20554. In addition to filing comments with the FCC, interested parties should serve the designated petitioner and her counsel as follows: Katherine Pyeatt, 3500 Maple Avenue, #1320, Dallas, Texas 75219; and Gene A. Bechtel, Esq., Law Office of Gene Bechtel, 1050 17th Street, NW., Suite 600, Washington, DC 20036.

FOR FURTHER INFORMATION CONTACT: Deborah A. Dupont, Media Bureau, (202) 418-7072.

SUPPLEMENTARY INFORMATION: This is a synopsis of the Commission's Notice of Proposed Rule Making, MB Docket No. 08-26, adopted March 12, 2008, and released March 14, 2008. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Michigan, is amended by adding Hugo, Channel 286A.

3. Section 73.202(b), the Table of FM Allotments under Michigan, is amended by removing Channel 242A and adding Channel 249A at Ludington.

Federal Communications Commission.
John A. Karousos,
Assistant Chief, Audio Division, Media Bureau.

[FR Doc. E8-6658 Filed 4-2-08; 8:45 am]

BILLING CODE 6712-01-P